ENVIRONMENTAL PROTECTION AGENCY

[FRL-7951-7]

Notice of a Scientific Peer Review Meeting to Review the Document: The Inventory of Sources and Environmental Releases of Dioxin-Like Compounds in the U.S.: the Year 2000 Update, March, 2005 (EPA/600/P/03/002a)

AGENCY: Environmental Protection Agency.

ACTION: Notice of external peer-review panel meeting.

SUMMARY: The U.S. Environmental Protection Agency (EPA) is announcing that ERG, an EPA contractor for external scientific peer review, will convene a panel of experts and organize and conduct an independent external peer-review workshop to review the draft report, “The Inventory of Sources and Environmental Releases of Dioxin-Like Compounds in the U.S.: the Year 2000 Update,” March, 2005 (EPA/600/P/03/002a) (Draft Dioxin Inventory Update). The public is invited to register to attend this meeting as an observer. In addition, the public is invited to give oral and/or provide written comments at the meeting regarding the draft document under review.

DATES: The peer-review panel meeting will occur from September 13, 2005, to September 15, 2005. Each day the meeting is scheduled to begin at 8 a.m. and end at 5 p.m., eastern daylight time. The public may attend the peer-review panel meeting as observers. In addition, members of the public in attendance at the meeting will be allowed to make brief (no longer than five minutes) oral statements at the commencement of the meeting.

ADDRESSES: The external peer-review panel meeting will be held at the Hilton Crystal City hotel, located at 2399 Jefferson Davis Highway in Arlington, Virginia. The EPA contractor, ERG, is organizing, convening, and conducting the peer-review panel meeting. To attend the meeting, register by September 7, 2005, by calling ERG, 110 Hartwell Avenue, Lexington, MA, at 781-674-7374 or by sending a facsimile to 781-674-2851. Interested parties may also register on-line at: https://www2.ergweb.com/projects/conferences/dioxin/register-dioxin.htm. Space is limited, and reservations will be accepted on a first-come, first-served basis. At the time of your registration for the meeting, please indicate if you intend to make an oral statement at the meeting.

The Draft Dioxin Inventory Update is available primarily via the Internet on the National Center for Environmental Assessment's (NCEA) home page at http://www.epa.gov/ncea under the Recent Additions (See May 6, 2005 entry) and Data and Publications menus.

FOR FURTHER INFORMATION CONTACT: Questions regarding registration and logistics for the peer review meeting should be directed to Katherine Moore, ERG, 110 Hartwell Avenue, Lexington, MA 02421; telephone: 781-674-7374; facsimile: 781-674-2851; e-mail: katherine.moore@erg.com.

If you have questions about the document, contact David Cleverly, National Center for Environmental Assessment, 1200 Pennsylvania Avenue, NW. (8601 D), Washington, DC 20460; telephone: 202-564-3238; facsimile: 202-565-2018; e-mail: cleverly.david@epa.gov.

SUPPLEMENTARY INFORMATION: On May 6, 2005, a Federal Register notice was published that announced a 60-day public comment period for EPA's Draft Dioxin Inventory Update (70 FR 24039). On May 6 this draft document, prepared by NCEA within EPA's Office of Research and Development, was also made publicly available on NCEA's Web site for review and comment. The 60-day public comment period closed on July 5. In the May 6 notice, EPA also announced that a subsequent Federal Register notice would announce the date and location of a meeting for independent external peer review of this draft document. Today's notice provides information on that peer review meeting.

The purpose of this report is to present an inventory of sources and environmental releases of dioxin-like compounds in the United States. This inventory is associated with three distinct reference years: 1987, 1995, and 2000. The presentation of information in this manner permits the ranking of sources by magnitude of annual release and allows for the evaluation of environmental trends over time. The term dioxin-like includes congeners of polychlorinated dibenzo-p-dioxins (CDDs), polychlorinated dibenzofurans (CDFs) having chlorine atoms in the 2,3,7,8 positions on the molecule, and certain coplanar-substituted polychlorinated biphenyls (PCBs). Dioxin-like refers to the fact that these compounds have similar chemical structure and physical-chemical properties and invoke a common battery of toxic response. Because of their hydrophobic nature and resistance towards metabolism, these chemicals persist and bioaccumulate in fatty tissues of animals and humans. Consequently, the principal route of chronic population exposure is through the dietary consumption of animal fats, fish, shellfish, and dairy products. Dioxin-like compounds are persistent in soils and sediments, with environmental half-lives ranging from years to several decades. Understanding the sources and environmental releases of dioxin-like compounds is fundamental to ultimately linking sources with population exposures. It is through such understanding that actions can be taken to reduce human exposures.

This current inventory is an update of an external review draft report entitled, The Inventory of Sources of Dioxin in the United States (EPA/600/P-98/002Aa), dated April 1998. The 1998 draft inventory presented annual estimates of environmental releases for reference years 1987 and 1995. The current inventory represents an update with the inclusion of a third reference year, 2000.

This updated inventory of sources and environmental releases of dioxin-like compounds concludes that, between 1987 and 2000, there was an approximately 89% reduction in the release of dioxin-like compounds to the circulating environment of the United States from all known sources combined. Annual emission estimates (TEQDF-WHO98) of releases of CDDs/CDFs to air, water, and land from reasonably quantifiable sources were approximately 1,529 grams in reference year 2000; 3,280 grams in reference year 1995; and 13,962 grams in reference year 1987. In 1987 and 1995, the leading sources of dioxin emissions to the U.S. environment were municipal waste combustors. The inventory concludes that the major source of dioxin in 2000 was the uncontrolled burning of refuse in backyard burn barrels in rural areas of the United States. The inventory also identifies bleached chlorine pulp and paper mills as a significant source of dioxin to the aquatic environment in 1987 but a minor source in 1995 and 2000.

The reduction in environmental releases of dioxin-like compounds from 1987 to 2000 is attributable to source-specific regulations, improvements in source technology, advancements in the pollution control technologies specific to controlling dioxin discharges and releases, and the voluntary actions of U.S. industries to reduce or prevent dioxin releases.

Dated: August 8, 2005.
Peter W. Preuss,
Director, National Center for Environmental Assessment.

[FR Doc. 05-16038 Filed 8-11-05; 8:45 am]

BILLING CODE 6560-50-U